ENVIRONMENTAL PROTECTION AGENCY

[EPA-HQ-ORD-2020-0682; FRL-10090-01-ORD]

Notice of Public Comment Period on Additional Candidates Added to the Peer Reviewer Pool for the Biofuels and the Environment: Third Triennial Report to Congress

AGENCY: Environmental Protection Agency (EPA).

ACTION: Notice of public comment period.

SUMMARY: The U.S. Environmental Protection Agency (EPA) is announcing a 15-day public comment period on two (2) additional peer review candidates for the external peer review of the Biofuels and the Environment: Third Triennial Report to Congress (RtC3). EPA previously invited public comment on an initial pool of twenty (20) candidates announced in a Federal Register Notice (FRN) published on May 9, 2022. After considering public comments and the balance and collective expertise of the reviewers, EPA asked ERG, the independent contractor organizing the peer review, to identify additional candidates to strengthen expertise gaps and allow a more balanced panel. EPA is seeking public comment on additional peer review candidates in order to strengthen underrepresented areas of expertise, specifically economics, water quality, and ecology disciplines. You may also comment on the initial twenty (20) candidates if you have not yet done so. If you already commented on those initial candidates in response to the May 9, 2022, FRN, you do not need to resubmit those comments. After considering all public comments on the initial pool of 20 candidates and the additional candidates announced in this FRN, ERG will select up to nine (9) peer reviewers. ERG will ensure the peer reviewers' combined expertise best spans the following disciplines: economics, engineering, agronomics, land use change, remote sensing, air quality, biogeochemistry, water quality, hydrology, conservation biology, limnology, and ecology. The peer review will be conducted under the framework of EPA's Scientific Integrity Policy (https://www.epa.gov/sites/default/files/2014-02/documents/scientific_integrity_policy_2012.pdf) and follow procedures established in EPA's Peer Review Handbook 4th Edition, 2015 (EPA/100/B-15/001).

DATES: The 15-day public comment period on the additional list of proposed peer review candidates begins August 1, 2022 and ends August 16, 2022. Comments must be received on or before August 16, 2022.

ADDRESSES: Please follow the instructions as provided in the section of this notice entitled SUPPLEMENTARY INFORMATION.

FOR FURTHER INFORMATION CONTACT: Questions concerning the process for forming the peer review panel should be directed to EPA's contractor, ERG, by email to peerreview@erg.com (subject line: RtC3 Peer Review). For information on the period of submission, contact the ORD Docket at the EPA Headquarters Docket Center; phone: 202-566-1752; fax: 202-566-9744; or email: ord.docket@epa.gov. For technical information, contact Christopher Clark; phone: 202-564-4183; or email: Clark.Christopher@epa.gov.

SUPPLEMENTARY INFORMATION:

I. Information About the Document

In 2007, Congress enacted the Energy Independence and Security Act (EISA) with the stated goals of “mov[ing] the United States toward greater energy independence and security [and] to increase the production of clean renewable fuels.” In accordance with these goals, EISA revised the Renewable Fuel Standard (RFS) Program, which was created under the 2005 Energy Policy Act and is administered by the EPA, to increase the volume of renewable fuel required to be blended into transportation fuel to 36 billion gallons per year by 2022. Section 204 of EISA directs the EPA, in consultation with the U.S. Departments of Agriculture and Energy, to assess and report triennially to Congress on the environmental and resource conservation impacts of the RFS Program.

The first report to Congress (RtC1) was completed in 2011 and provided an assessment of the environmental and resource conservation impacts associated with increased biofuel production and use (EPA/600/R-10/183F). The overarching conclusions of this first report were: (1) the environmental impacts of increased biofuel production and use were likely negative but limited in impact; (2) there was a potential for both positive and negative impacts in the future; and (3) EISA goals for biofuels production could be achieved with minimal environmental impacts if best practices were used and if technologies advanced to facilitate the use of second-generation biofuel feedstocks (corn stover, perennial grasses, woody biomass, algae, and waste).

The second report to Congress (RtC2) was completed in 2018 and reaffirmed the overarching conclusions of the RtC1 (EPA/600/R-18/195). The RtC2 noted that the biofuel production and use conditions that led to the conclusions of the RtC1 had not materially changed, and that the production of biofuels from cellulosic feedstocks anticipated by both the EISA and the RtC1 had not materialized. Noting observed increases in acreage for corn and soybean production in the period prior to, and following, implementation of the RFS2 Program, the RtC2 concluded that the environmental and resource conservation impacts associated with land use change were likely due, at least in part, to the RFS Program and associated production of biofuel feedstocks but that further research was needed.

This RtC3 builds on the previous two reports and provides an update on the impacts to date of the RFS Program on the environment. This report assesses air, water, and soil quality; ecosystem health and biodiversity; and other effects. This third report also includes new analyses not previously included in the first and second reports.

II. Information About This Peer Review

EPA's contractor, ERG, is considering a list of candidates from which to select the independent, external, peer review panel for the RtC3. On May 9, 2022, EPA announced through an FRN (87 FR 27634) that it was seeking public comment on a pool of twenty (20) candidates identified through a previous FRN seeking nomination of experts (87 FR 5479, February 1, 2022). Candidates combined expertise spanned the following disciplines: economics, engineering, agronomics, land use change, remote sensing, air quality, biogeochemistry, water quality, hydrology, conservation biology, limnology, and ecology. After considering public comment, and the balance and collective expertise of the reviewers, ERG identified two (2) additional candidates to strengthen expertise gaps and allow a more balanced panel. The updated List of Candidates with additional candidates in bold font has been posted to the docket at https://www.regulations.gov (EPA-HQ-ORD-2020-0682) and is included below.

After considering public comments received on the candidates submitted in response to this FRN, FRL-10090-01-ORD, and the previous FRN (87 FR 27634, May 9, 2022), ERG will select up to nine (9) peer reviewers from this pool in a manner consistent with EPA's Peer Review Handbook 4th Edition, 2015 (EPA/100/B-15/001) based on the following factors: (1) demonstrated expertise in the areas listed above through relevant peer-reviewed publications; (2) professional accomplishments and recognition by professional societies; (3) demonstrated ability to work constructively and effectively in a committee setting; (4) absence of conflicts of interest; (5) no appearance of a lack of impartiality; (6) willingness to commit adequate time for a thorough review of the draft report, including preparation of individual written comments that will be made publicly available; and (7) availability to participate virtually in a public two-day or three-day peer review meeting and to provide subsequent revised individual comments. ERG will independently conduct a conflict of interest (COI) screening of candidates to ensure that the selected experts have no COI in conducting this review. EPA will announce the final peer review panel, peer review meeting information, and public comment period on the RtC3 External Review Draft in a subsequent FRN. Comments on the peer review candidates must be submitted to the docket by August 16, 2022.

Revised Pool of Peer Reviewer Candidates (with New Candidates Listed in Bold Font)

1. Jacob N. Barney, Virginia Tech

2. Steven T. Berry, Yale University

3. Sarah C. Davis, Ohio University

4. Harry de Gorter, Cornell University

5. Bernard A. Engel, Purdue University

6. Jason D. Hill, University of Minnesota

7. S. Kent Hoekman, Desert Research Institute

8. Atul K. Jain, University of Illinois at Urbana-Champaign

9. Stephen R. Kaffka, University of California, Davis

10. Mary Kombolias, Agrafa Solutions LLC

11. Lyubov A. Kurkalova, North Carolina Agricultural and Technical State University

12. Doug A. Landis, Michigan State University

13. Tyler J. Lark, University of Wisconsin-Madison

14. Ruopi Li, Southern Illinois University, Carbondale

15. Chris Malins, Cerulogy Consulting, UK

16. Nathan Parker, Arizona State University

17. John M. Reilly, Massachusetts Institute of Technology

18. Timothy D. Searchinger, Princeton University

19. Aaron Smith, University of California, Davis

20. Yang Song, University of Arizona

21. Farzad Taheripour, Purdue University

22. Bin Yang, Washington State University, Tri-Cities

III. How To Submit Technical Comments to the Docket at www.regulations.gov

We encourage the public to submit comments to Docket ID No. [EPA-HQ-ORD-2020-0682] via web at https://www.regulations.gov/ or via email at ord.docket@epa.gov, as there may be a delay in processing mail and faxes. Hand deliveries and couriers may be received at the EPA Docket Center, WJC West Building, Room 3334, 1301 Constitution Avenue NW, Washington, DC, from 8:30 a.m. to 4:30 p.m., Monday through Friday, excluding Federal Holidays. For further information on EPA Docket Center services and the current status, please visit us online at https://www.epa.gov/dockets.

Instructions: Direct your comments to Docket ID No. [EPA-HQ-ORD-2020-0682]. Please ensure that your comments are submitted within the specified comment period. It is EPA's policy to include all materials it receives in the public docket without change and to make the materials available online at www.regulations.gov, including any personal information provided, unless materials include information claimed to be Confidential Business Information (CBI) or other information whose disclosure is restricted by statute. Do not submit information that you consider to be CBI or otherwise protected through www.regulations.gov or email. The www.regulations.gov website is an “anonymous access” system, which means EPA will not know your identity or contact information unless you provide it in the body of your comment. If you send an email directly to EPA without going through www.regulations.gov, your email address will be automatically captured and included as part of the materials that are placed in the public docket and made available on the internet. If you submit electronic materials, EPA recommends that you include your name and other contact information in the body of your materials and with any disk or CD-ROM you submit. If EPA cannot read your materials due to technical difficulties and cannot contact you for clarification, EPA may not be able to consider the materials you submit. Electronic files should avoid the use of special characters, any form of encryption, and be free of any defects or viruses. For additional information about EPA's public docket visit EPA's Docket Center homepage at www.epa.gov/epahome/dockets.htm.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the ORD Docket in EPA's Headquarters Docket Center.

Dated: July 26, 2022.
Wayne Cascio,
Director, Center for Public Health and Environmental Assessment, Office of Research and Development.

[FR Doc. 2022-16369 Filed 7-29-22; 8:45 am]

BILLING CODE 6560-50-P